ENVIRONMENTAL PROTECTION AGENCY

[OPP-34224; FRL-6559-7]

Certain Chemicals; Completion of Comment Period for Reregistration Eligiblity Decision Documents

AGENCY: Environmental Protection Agency (EPA).

ACTION: Notice.

SUMMARY: This notice, pursuant to section 4(g)(2) of the Federal Insecticide, Fungicide, and Rodenticide Act (FIFRA), concludes the comment period for the Reregistration Eligibility Decision (RED) documents for several pesticide chemical cases.

FOR FURTHER INFORMATION CONTACT: Technical questions on the RED documents should be directed to the appropriate Chemical Review Mangers listed in the table under SUPPLEMENTARY INFORMATION.

SUPPLEMENTARY INFORMATION:

I. General Information

A. Does this Notice Apply to Me

This notice is directed to the public in general. As such, the Agency has not attempted to describe all the specific entities that may be affected by this action. If you have any questions regarding the information in this notice, consult the appropriate chemical review manager listed in the table in Unit II. of this document.

B. How Can I Get Additional Information, Including Copies of this Document and the REDs?

You may obtain copies of this document from the EPA Internet Home Page at http://www.epa.gov/. On the Home Page select “Laws and Regulations,” “Regulations and Proposed Rules,” and then look up the entry for this document under the “Federal Register—Environmental Documents.” You can also go directly to the “Federal Register” listings at http://www.epa.gov/fedrgstr/.

Copies of these RED documents are available from EPA's National Service Center for Environmental Publications (NSCEP), PO Box 42419, Cincinnati, OH 45242-2419, telephone number 1-800-490-9198. To obtain copies you must provide the EPA publication number that has been assigned to the RED, as listed in the table in Unit II. of this document.

Copies of the REDs also are available from the National Technical Information Service (NTIS), 5285 Port Royal Road, Springfield, VA 22161, ATTN: Order Desk; telephone number 1-800-553-6847. To obtain copies you must provide the EPA publication number that has been assigned to the RED, as listed in the table in Unit II. of this document.

These REDs and RED fact sheets are available electronically from the EPA web site at www.epa.gov/REDs/. For related information, see the EPA Office of Pesticide Programs' home page, http://www.epa.gov/pesticides.

II. Background

During fiscal year 1999, EPA completed reregistration eligibility decisions for 14 pesticides, and issued Reregistration Eligibility Decision (RED) documents for the pesticide active ingredients listed below. The Agency published a Notice in the Federal Register on December 3, 1999 (64 FR 67902) (FRL-6395-6), announcing the availability of RED documents for six of these pesticides (Captan, S-Ethyl dipropylthiocarbamate (EPTC), Folpet, Niclosamide and 3-trifluoromethyl-4-nitrophenol (TFM or Lamprecide), and Pebulate). These REDs were issued as final documents with a 60-day comment period, which closed on February 1, 2000. In these REDs, EPA provided its regulatory position on the current registered uses of these pesticides and set forth certain requirements for product reregistration eligibility.

The Agency also published separate Federal Register notices announcing the availability of REDs for Sulfotepp (a voluntary cancellation) on December 22, 1999 (64 FR 71754) (FRL-6391-2), and triphenyltin hydroxide (TPTH) on December 1, 1999 (64 FR 67265) (FRL-6395-3), the latter for 90 days of public comment. EPA will announce in the Federal Register the cancellation of Sulfotepp when it becomes effective in September 2002.

No comments were submitted for the following RED documents:

Folpet

Pebulate

Comments were submitted for the following REDs but did not significantly affect EPA's regulatory position:

EPTC

Niclosamide

TFM

TPTH

Sulfotepp

These comments and the Agency's responses are included in the dockets for these pesticides.

Comments were submitted for the following REDs that changed EPA's regulatory position:

(none so far)

Comments were submitted and are still under review for the following REDs:

Captan

The EPA publication numbers for the REDs subject to this notice are presented below.

Chemical Name | Chemical Review Manager/Phone No./ E-mail address | Case Number | RED Signature Date | EPA Publication Number
Captan | Kylie Rothwell; 703-308-8055; Rothwell.Kylie@epa.gov | 0120 | 9/99 | EPA-738-R-99-015
EPTC | Jamil Mixon; 703-308-8032; Mixon.Jamil@epa.gov | 0064 | 9/99 | EPA-738-R-99-006
Folpet | Christina Scheltema; 703-308-2201; Scheltema.Christina@epa.gov | 0630 | 9/99 | EPA-738-R-99-011
Niclosamide | Laura Parsons; 703-308-5776; Parsons.Laura@epa.gov | 2455 | 9/99 | EPA-738-R-99-007
TFM | Laura Parsons; 703-308-5776; Parsons.Laura@epa.gov | 3082 | 9/99 | EPA-738-R-99-007
TPTH | Phil Budig; 703-308-8029; Budig.Phil@epa.gov | 0099 | 9/99 | EPA-738-R-99-010
Pebulate | Patricia Moe; 703-308-8011; Moe.Patricia@epa.gov | 2500 | 9/99 | EPA-738-R-99-005
Sulfotepp | Roberta Farrell; 703-308-8065; Farrell.Roberta@epa.gov | 0338 | 9/99 | EPA-738-R-99-012

List of Subjects

Environmental protection.

Dated: September 12, 2000.
Lois A. Rossi,
Director, Special Review and Reregistration Division, Office of Pesticide Programs.

[FR Doc. 00-24208 Filed 9-26-00; 8:45 am]

BILLING CODE 6560-50-F